NATIONAL ARCHIVES AND RECORDS ADMINISTRATION

32 CFR Part 2002

[NARA-06-006]

RIN 3095-AB51

General Guidelines for Systematic Declassification Review of Foreign Government Information; Removal of Part

AGENCY: National Archives and Records Administration (NARA).

ACTION: Final rule.

SUMMARY: The National Archives and Records Administration (NARA) is removing Information Security Oversight Office (ISOO) regulations on the general guidelines for systematic declassification review of foreign government information. Following the issuance of Executive Order 12958 (Classified National Security Information) on April 17, 1995, and its amendment on March 25, 2003, the General Guidelines for Systematic Declassification Review of Foreign Government Information, became obsolete. The final rule will affect Federal agencies.

EFFECTIVE DATE: Effective September 7, 2006.

FOR FURTHER INFORMATION CONTACT: J. William Leonard, Director, ISOO, at 202-357-5400.

SUPPLEMENTARY INFORMATION: The authority citation for part 2002 is no longer valid with the revocation of E.O. 12356 following the issuance of E.O. 12958, as amended. Part 2002 prescribed the general guidelines for the systematic declassification review of classified foreign government information that was either received or classified by the United States Government or its agents, and incorporated into records determined by the Archivist of the United States to have permanent value. E.O. 12958, as amended, and its implementing regulation, 32 CFR parts 2001 and 2004 (ISOO Directive No. 1), provide for the declassification of classified foreign government information. As national security classified information, classified foreign government information is subject to automatic declassification after 25 years unless specifically exempted.

Therefore, pursuant to 5 U.S.C. 553(b)(B), good cause exists for waiving the requirements of notice and opportunity for comment on the withdrawal of 32 CFR part 2002. Following the issuance of Executive Order 12958, as amended, these sections became obsolete. Therefore, because the Information Security Oversight Office (ISOO) has no authority to retain these sections, the process of notice and comment would be unproductive and is unnecessary. Additionally, it is in the public interest to remove an obsolete regulation.

This rule is not a significant regulatory action for the purposes of Executive Order 12866 and has not been submitted for Office of Management and Budget review under that order. As required by the Regulatory Flexibility Act, I certify that this rule will not have a significant impact on a substantial number of small entities because this rule applies to Federal agencies. This regulation does not have any federalism implications.

List of Subjects in 32 CFR Part 2002

Archives and records, Declassification.

PART 2002—[REMOVED]

Under E.O. 12958, as amended, section 3.3(g) and for the reasons set forth in the preamble, NARA amends 32 CFR chapter 20 by removing part 2002.

Dated: August 24, 2006.
J. William Leonard,
Director, Information Security Oversight Office.
Approved: August 30, 2006.
Allen Weinstein,
Archivist of the United States.

[FR Doc. E6-14761 Filed 9-6-06; 8:45 am]

BILLING CODE 7515-01-P